DEPARTMENT OF VETERANS AFFAIRS

Advisory Committee on Former Prisoners of War, Notice of Meeting

The Department of Veterans Affairs (VA) gives notice under Public Law 92-463 that a meeting of the Advisory Committee on Former Prisoners of War will be held on April 30 through May 2, 2001, at the Washington, DC, Headquarters of The American Legion, Room 700, 1608 K Street NW, Washington DC. Each day the meeting will convene at 9 a.m. and end at 4:30 p.m. The meeting is open to the public.

The purpose of the committee is to advise the Secretary of Veterans Affairs on the administration of benefits under Title 38, United States Code, for veterans who are former prisoners of war, and to make recommendations on the needs of such veterans for compensation, health care and rehabilitation.

The agenda for April 30th will begin with an introduction of committee members and dignitaries, a review of Committee reports, an update of activities since the last meeting, and a period for POW veterans and/or the public to address the committee. The Committee will also reveiw the Secretary's response to the April and October, 2000, report of meeting, and receive presentations on Veterans Benefits Administration and Veterans Health Administration activities, as well as on the One VA POW Learning Seminars. The agenda on May 1 will include an update on VA long term health care, a report from the Center on POW Studies, an update by the National Institute of Health on the follow-up report on morbidity and mortality among POWs and a report on the development of the Data Merge project as a follow-up to the findings of the Expert Panel on Stroke. The committee will also take up consideration of priority for POWs in long-term Health Care programs and other issues. On May 2, the Committee's Medical and Administrative working committees will break out to discuss their activities and report back to the Committee.

Additionally, the Committee will review and analyze the comments discussed throughout the meeting for the purpose of assisting and compiling a final report to be sent to the Secretary.

Members of the public may direct questions or submit prepared statements for review by the Committee in advance of the meeting, in writing only, to Mr. John F. McCourt, Acting Director, Compensation and Pension Service (21), Department of Veterans Affairs, 810 Vermont Avenue, NW, Washington, DC 20420. Submitted materials must be received by April 20, 2001. A report of the meeting and roster of Committee members may be obtained from Mr. McCourt.

Dated: April 10, 2001.
By Direction of the Secretary.
Ventris C. Gibson,
Committee Management Officer.

[FR Doc. 01-10954 Filed 5-1-01; 8:45 am]

BILLING CODE 8320-01-M